DEPARTMENT OF ENERGY

Federal Energy Regulatory Commission

[Docket Nos. EL00-95-000, EL00-98-000, ER02-1656-000]

San Diego Gas & Electric Company, Complainant, v. Sellers of Energy and Ancillary Services Into Markets Operated by the California Independent System Operator and the California Power Exchange, Respondents; Investigation of Practices of the California; Independent System Operator and the California Power Exchange; California Independent System Operator (MDO2); Amended Notice of Technical Conference and Agenda

May 3, 2002.

The Federal Energy Regulatory Commission Staff is convening a technical conference to facilitate continued discussions between the California Independent System Operator Corporation (CAISO), market participants, state agencies and other interested participants on the development of a revised market design for the CAISO. Attached is the proposed agenda for the conference. This amended notice adds Docket

No. ER02-1656-000. The conference will held in San Francisco, California, at the Renaissance Parc 55 Hotel, 55 Cyril Magnin Street, San Francisco, CA, on May 9 and 10, 2002, beginning at 9 a.m.

For additional information concerning the conference, interested persons may contact Robert Pease at (202) 208-0131 or by electronic mail at “robert.pease@ferc.gov.” No telephone communication bridge will be provided at this technical conference.

Magalie R. Salas,
Secretary.

Discussion Issues for FERC Technical Conference on California Market Design May 9-10, 2002.

1. Implementation/Redesign of Markets

a. Day-Ahead Market

i. Price Certainty

ii. Date for Implementation

iii.Market Separation

b. Hourly Market

i. Price Certainty

ii. Date for Implementation

c. 10—Minute Market

i. Price Certainty

2. Feasible Schedules

a. Ramping Constraints

b. Transmission Constraints

c. Balanced Schedules

3. Intrazonal Congestion

4. Capacity Obligations

a. Presentation by Inter-Agency Task Force on AFEC

b. Other Presentations

5. Process for Incorporating Stakeholder Input

[FR Doc. 02-11591 Filed 5-8-02; 8:45 am]

BILLING CODE 6717-01-P